DEPARTMENT OF EDUCATION

National Assessment Governing Board; Meeting

AGENCY: National Assessment Governing Board; Education.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than November 6, 2006. We will attempt to meet requests after this date, but cannot guarantee availability of the requested accommodation. The meeting site is accessible to individuals with disabilities.

DATES: November 16-18, 2006.

Times

November 16:

Committee Meetings:

Assessment Development Committee: Closed Session—2 p.m. to 4 p.m.;

Executive Committee: Open Session—4:30 p.m. to 5 p.m.; Closed Session—5 p.m. to 6 p.m.

November 17:

Full Board: Open Session—8:30 a.m. to 12:15 p.m.; Closed Session—12:15 p.m. to 1:45 p.m.; Open Session—1:45 p.m.-4:30 p.m.

Committee Meetings:

Assessment Development Committee: Open Session—9:45 a.m. to 12:15 p.m.;

Committee on Standards, Design and Methodology: Open Session—9:45 a.m. to 12:15 p.m.;

Reporting and Dissemination Committee: Open Session—9:45 a.m. to 12:15 p.m.;

November 18:

Nominations Committee: Closed Session—8 a.m. to 8:30 a.m.

Full Board: Open Session—9 a.m. to 12 p.m.

Location: The Ritz-Carlton Tysons Corner, 1700 Tysons Boulevard, McLean, VA 22102.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on November 16 from 2 p.m. to 4 p.m. (two hours) to review secure topics for proposed 2009 National Assessment of Educational Progress (NAEP) science interactive computer tasks at grades 4, 8, and 12. The meeting must be conducted in closed session as disclosure of secure interactive computer tasks on the NAEP Science Assessment would significantly impede implementation of the NAEP program, and is therefore protected by exemption 9(B) of section 552b(c) of Title 5 U.S.C.

The Executive Committee will meet in open session on November 16 from 4:30 p.m. to 5 p.m. and will meet in closed session from 5 p.m. to 6 p.m. The Committee will receive independent government cost estimates from the National Center for Education Statistics for proposed contracts for item development, sample selection, analysis, and reporting of NAEP testing for 2008-2012, and their implications on future NAEP activities. The discussion of independent government cost estimates prior to the development of the Request for Proposals for NAEP contracts covering assessment years 2008-2012 is necessary for ensuring that NAEP contracts meet congressionally mandated goals and adhere to Board policies on NAEP assessments. This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On November 17, the full Board will meet in open session from 8:30 a.m. to 12:15 p.m. From 8:30 a.m. to 9:30 a.m. the Board will approve the agenda which will be followed by the Oath of Office ceremony for new Board members. The Board will receive the Executive Director's report and hear an update on the work of the National Center for Education Statistics.

From 9:45 a.m. to 12:15 p.m. on November 17, the Board's standing committees—the Assessment Development Committee; the Committee on Standards, Design and Methodology; and the Reporting and Dissemination Committee—will meet in open sessions.

On November 17, the full Board will meet in closed session from 12:15 p.m. to 1:45 p.m. The Board membership will be briefed by the Associate Commissioner of the National Center for Education Statistics on secure national student achievement data related to two upcoming NAEP 12th grade reports. The Governing Board will be provided with embargoed data from the 2005 Mathematics and Reading Assessments in grade 12 and the 2005 High School Transcript Study, which includes findings from the 2005 12th grade Mathematics and Science Assessments. These data constitute the major basis for the initial public release of The Nation's Report Card, and cannot be discussed in an open meeting prior to the official release of these two reports. The meeting must therefore be conducted in closed session as disclosure of data would significantly impede implementation of The Nation's Report Card initial release activities, as protected by exemption 9(B) of section 552b(c) of Title 5 U.S.C.

On November 17 from 2 p.m. to 3 p.m. the Board will receive a report from the Commission on the Future of Higher Education. This session will be followed by an update on the NAEP Writing Framework project from 3 p.m. to 4 p.m. From 4 p.m. to 4:30 p.m., Board members will receive an ethics briefing from the Office of General Counsel, upon which the November 17 session of the Board meeting will conclude.

The Nominations Committee will meet in closed session on November 18 from 8 a.m. to 8:30 a.m. to review and discuss confidential information regarding nominees received for Board vacancies for terms beginning on October 1, 2007. This discussion pertains solely to internal personnel rules and practices of an agency and will disclose information of a personal nature where disclosure would constitute an unwarranted invasion of personal privacy. As such, the discussions are protected by exemptions 2 and 6 of section 552b(c) of Title 5 U.S.C.

From 9 a.m. to 12 p.m., the full Board will meet in open session. The full Board will receive a briefing on setting achievement levels from 9 a.m. to 10:15 a.m. Board actions on policies and Committee reports are scheduled to take place between 10:30 a.m. and 12 p.m., upon which the November 18, 2006 session of the Board meeting will adjourn.

Detailed minutes of the meeting, including summaries of the activities of the closed sessions and related matters that are informative to the policies and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time.

Dated: October 18, 2006.
Charles E. Smith,
Executive Director, National Assessment Governing Board.

[FR Doc. 06-8821 Filed 10-20-06; 8:45 am]

BILLING CODE 4000-01-M